DEPARTMENT OF THE INTERIOR

[FWS-R4-ES-2022-N228; FVHC98220410150-XXX-FF04H00000]

Mississippi Trustee Implementation Group Deepwater Horizon Oil Spill Final Restoration Plan 3 and Environmental Assessment: Habitat Projects on Federally Managed Lands, Sea Turtles, Marine Mammals, Birds, and Provide and Enhance Recreational Opportunities; and Finding of No Significant Impact

AGENCY: Department of the Interior.

ACTION: Notice of availability.

SUMMARY: In accordance with the Oil Pollution Act of 1990, the National Environmental Policy Act of 1969, the Final Programmatic Damage Assessment Restoration Plan and Final Programmatic Environmental Impact Statement (Final PDARP/PEIS) and Record of Decision, and the Consent Decree, the Federal and State natural resource trustee agencies for the Mississippi Trustee Implementation Group (MS TIG) have prepared the Mississippi Trustee Implementation Group Final Restoration Plan 3 and Environmental Assessment: Habitat Projects on Federally Managed Lands, Sea Turtles, Marine Mammals, Birds, and Provide and Enhance Recreational Opportunities (Final RP3/EA); and Finding of No Significant Impact (FONSI). The Final RP3/EA describes and, in conjunction with the associated FONSI, selects for funding and implementation the preferred restoration projects considered by the MS TIG to compensate for natural resources and their services in the Mississippi Restoration Area as a result of the Deepwater Horizon oil spill. The approximate cost to implement the MS TIG's preferred projects is $19,000,000. The purpose of this notice is to inform the public of the availability of the Final RP3/EA and FONSI.

ADDRESSES: Obtaining Documents: You may download the Final RP3/EA from either of the following websites:

• https://www.doi.gov/deepwaterhorizon

• https://www.gulfspillrestoration.noaa.gov/restoration-areas/mississippi

Alternatively, you may request a CD of the Final RP3/EA (see FOR FURTHER INFORMATION CONTACT).

FOR FURTHER INFORMATION CONTACT: Nanciann Regalado, at nanciann_regalado@fws.gov or 678-296-6805. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Introduction

On April 20, 2010, the mobile offshore drilling unit Deepwater Horizon (DWH), which was being used to drill a well for BP Exploration and Production, Inc. (BP), in the Macondo prospect (Mississippi Canyon 252-MC252), experienced a significant explosion, fire, and subsequent sinking in the Gulf of Mexico, resulting in an unprecedented volume of oil and other discharges from the rig and from the wellhead on the seabed. The DWH oil spill is the largest offshore oil spill in U.S. history, discharging millions of barrels of oil over a period of 87 days. In addition, well over 1 million gallons of dispersants were applied to the waters of the spill area in an attempt to disperse the spilled oil. An undetermined amount of natural gas was also released into the environment as a result of the spill.

The Trustees conducted the natural resource damage assessment (NRDA) for the DWH oil spill under the Oil Pollution Act 1990 (OPA; 33 U.S.C. 2701 et seq.). Pursuant to OPA, Federal and State agencies act as trustees on behalf of the public to assess natural resource injuries and losses and to determine the actions required to compensate the public for those injuries and losses. The OPA further instructs the designated trustees to develop and implement a plan for the restoration, rehabilitation, replacement, or acquisition of the equivalent of the injured natural resources under their trusteeship to baseline (the resource quality and conditions that would exist if the spill had not occurred). This includes the loss of use and services provided by those resources from the time of injury until the completion of restoration.

The DWH Trustees are:

• U.S. Department of the Interior (DOI), as represented by the National Park Service, U.S. Fish and Wildlife Service, and Bureau of Land Management;

• National Oceanic and Atmospheric Administration (NOAA), on behalf of the U.S. Department of Commerce;

• U.S. Department of Agriculture (USDA);

• U.S. Environmental Protection Agency (EPA);

• State of Louisiana Coastal Protection and Restoration Authority, Oil Spill Coordinator's Office, Department of Environmental Quality, Department of Wildlife and Fisheries, and Department of Natural Resources;

• State of Mississippi Department of Environmental Quality;

• State of Alabama Department of Conservation and Natural Resources and Geological Survey of Alabama;

• State of Florida Department of Environmental Protection and Fish and Wildlife Conservation Commission; and

• State of Texas: Texas Parks and Wildlife Department, Texas General Land Office, and Texas Commission on Environmental Quality.

On April 4, 2016, the United States District Court for the Eastern District of Louisiana entered a Consent Decree resolving civil claims by the Trustees against BP arising from the DWH oil spill: United States v. BPXP et al., Civ. No. 10-4536, centralized in MDL 2179, In re: Oil Spill by the Oil Rig “Deepwater Horizon” in the Gulf of Mexico, on April 20, 2010 (E.D. La.) (http://www.justice.gov/enrd/deepwater-horizon). Pursuant to the Consent Decree, restoration projects in the Mississippi Restoration Area are chosen and managed by the MS TIG. The MS TIG is composed of the following Trustees: State of Mississippi Department of Environmental Quality, DOI, NOAA, EPA, and USDA.

Background

On October 30, 2020, the MS TIG posted a public notice at http://www.gulfspillrestoration.noaa.gov requesting new or revised natural resource restoration project ideas by November 30, 2020, for the Mississippi Restoration Area. The notice stated that the MS TIG was seeking project ideas for the following restoration types: (1) Habitat Projects on Federally Managed Lands; (2) Sea Turtles; (3) Marine Mammals; (4) Birds; and (5) Provide and Enhance Recreational Opportunities. On June 11, 2021, the MS TIG announced that it had initiated drafting of the RP3/EA and that it would include a reasonable range of restoration alternatives (projects) for the five restoration types.

The MS TIG released the Draft RP3/EA on December 7, 2021, and its notice of availability was published in the Federal Register on December 7, 2021 (86 FR 69287). In accordance with the National Environmental Policy Act (NEPA) and the OPA NRDA regulations, the MS TIG analyzed a reasonable range of alternatives that would meet the Trustees' goals to restore and conserve habitat, replenish and protect living coastal and marine resources, and provide and enhance recreational opportunities, and identified the alternatives that the MS TIG preferred for implementation. The public review and comment period ran from the date of notice of publication in the Federal Register through January 26, 2022. To facilitate public review and comment, the MS TIG held a public webinar on January 11, 2022. Before finalizing the document, the MS TIG considered all public comments received during the webinar, through direct submittals to its online public comment portal, and by USPS. A summary of comments and the MS TIG's responses to those comments are provided in Chapter 6 of the Final RP3/EA.

Overview of the MS TIG Final RP3/EA

The Final RP3/EA provides the MS TIG's analysis of a reasonable range of alternatives, consisting of twelve alternatives, and a no action alternative for each restoration type in the plan. The MS TIG's seven preferred alternatives were ultimately selected for implementation and are presented in the following table under the restoration type from which funds would be allocated in accordance with the DWH Consent Decree. The approximate cost for the seven selected projects is $19,000,000.

Restoration Type: Habitat Projects on Federally Managed Lands

Improve Native Habitats by Removing Marine Debris from Mississippi Barrier Islands

Restoration Type: Sea Turtles

Maintaining Enhanced Sea Turtle Stranding Network Capacity and Diagnostic Capabilities (3 Years)

Restoration Type: Marine Mammals

Maintaining Enhanced Marine Mammal Stranding Network Capacity and Diagnostic Capabilities

Reduction of Marine Mammal Fishery Interactions through Trawl Technique and Component Material Improvements

Restoration Type: Birds

Bird Stewardship and Enhanced Monitoring in Mississippi

Restoration Type: Provide and Enhance Recreational Opportunities

Clower Thornton Nature Park Trail Improvement

Environmental Education and Stewardship at Walter Anderson Museum of Art

Administrative Record

The documents comprising the Administrative Record for the Final RP3/EA can be viewed electronically at https://www.doi.gov/deepwaterhorizon/adminrecord.

Authority

The authority for this action is the Oil Pollution Act of 1990 (33 U.S.C. 2701 et seq.), its implementing NRDA regulations found at 15 CFR part 990, and the National Environmental Policy Act of 1969 (42 U.S.C. 4321 et seq.) and its implementing regulations found at 40 CFR 1500-1508.

Mary Josie Blanchard,
Department of the Interior, Director of Gulf of Mexico Restoration.

[FR Doc. 2022-10467 Filed 6-2-22; 8:45 am]

BILLING CODE 4333-15-P